DEPARTMENT OF ENERGY

Federal Energy Regulatory Commission

[Docket No. CP08-76-000]

Northern Natural Gas Company; Prior Notice of Activity Under Blanket Certificate

February 22, 2008.

Take notice that on February 20, 2008 Northern Natural Gas Company (NNG) filed a prior notice request pursuant to Sections 157.205, 157.208 and 157.210 of the Federal Energy Regulatory Commission's (Commission) regulations under the Natural Gas Act, and NNG's blanket certificate issued in Docket No. CP82-401-000 on September 1, 1982, for authorization to: Install approximately one mile of 36-inch mainline and approximately 3.67 miles of 6-inch branch line, including appurtenant facilities; and, uprate the maximum allowable operating pressures (MAOP) on three system branch lines, including appurtenant facilities on certain of the branch lines in conjunction with the MAOP uprate, all as more fully described in the application.

Any questions regarding the application should be directed to Michael T. Loeffler, Senior Director, Certificates and External Affairs for NNG, 1111 South 103rd Street, Omaha, Nebraska 68124, at (402) 398-7103 or Donna Martens, Senior Regulatory Analyst, at (402) 398-7138.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Protests will be considered by the Commission in determining the appropriate action to be taken, but will not serve to make protestants parties to the proceeding. Any person wishing to become a party must file a notice of intervention or motion to intervene, as appropriate. Such motions or protests must be filed on or before the comment date. Anyone filing a motion to intervene or protest must serve a copy of that document on the Applicant, on or before the comment date. It is not necessary to serve motions to intervene or protests on persons other than the Applicant.

The Commission encourages electronic submission of comments, protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E8-3757 Filed 2-27-08; 8:45 am]

BILLING CODE 6717-01-P